DEPARTMENT OF STATE

[Public Notice 8731; No. 2014-7]

Determination Under the Foreign Missions Act

Pursuant to the authority vested in the Secretary of State by the laws of the United States, including the Foreign Missions Act (codified at 22 U.S.C. 4301 et seq.) and delegated by the Secretary to me in accordance with the Department of State's Delegation of Authority No. 198, dated September 16, 1992, I hereby determine that the representative offices in the United States of the National Coalition of Syrian Revolution and Opposition Forces (commonly known as the Syrian Opposition Coalition or “SOC”), including their real property and personnel, are a “foreign mission” within the meaning of 22 U.S.C. 4302(a)(3).

Furthermore, I hereby determine it to be reasonably necessary to protect the interests of the United States to require the SOC's representative offices in the United States, and their agents or employees acting on their behalf, to comply with the terms and conditions specified by the Director of the Office of Foreign Missions relating to the entities' operations in the United States.

Dated: May 5, 2014.
Patrick F. Kennedy,
Under Secretary for Management.

[FR Doc. 2014-11124 Filed 5-13-14; 8:45 am]

BILLING CODE 4710-05-P